NUCLEAR REGULATORY COMMISSION

[Docket Nos. 50-445 and 50-446; NRC-2012-0310]

Consideration of Approval of Application Containing Sensitive Unclassified Non-Safeguards Information Regarding Proposed Energy Future Holdings Corporation Internal Restructuring

AGENCY: Nuclear Regulatory Commission.

ACTION: Request for indirect license transfer; opportunity for hearing, to petition for leave to intervene, and to comment; order; correction.

SUMMARY: This document corrects a notice appearing in the Federal Register on January 2, 2013 (78 FR 119). This action is necessary to correct an incorrect Docket ID.

FOR FURTHER INFORMATION CONTACT: Cindy Bladey, Chief, Rules, Announcements, and Directives Branch, Office of Administration, Nuclear Regulatory Commission, Washington, DC 20555-0001, telephone: 301-492-3667; email: Cindy.Bladey@nrc.gov.

SUPPLEMENTARY INFORMATION: On page 119 of Federal Register document 2012-31527, published January 2, 2013 (78 FR 119-123), the heading is corrected to read “NRC-2012-0310.” Also on the same page, second column, in the first paragraph under the ADDRESSES section and in the first bullet under the ADDRESSES section, “NRC-2012-0301” is corrected to read “NRC-2012-0310.” Also on the same page, third column, in the first paragraph under the “Accessing Information” section and in the first bullet under the “Accessing Information” section, “NRC-2012-0301” is corrected to read “NRC-2012-0310.” On the same page, third column, in the first paragraph under the “Submitting Comments” section, “NRC-2012-0301” is corrected to read “NRC-2012-0310.”

Dated at Rockville, Maryland, this 4th day of January 2013.
For the Nuclear Regulatory Commission.
Helen Chang,
Acting Chief, Rules, Announcements, and Directives Branch, Division of Administrative Services, Office of Administration.

[FR Doc. 2013-00326 Filed 1-9-13; 8:45 am]

BILLING CODE 7590-01-P